DEPARTMENT OF ENERGY

Federal Energy Regulatory Commission

Combined Notice of Filings

Take notice that the Commission has received the following Natural Gas Pipeline Rate and Refund Report filings:

Docket Numbers: RP20-194-001.

Applicants: Alliance Pipeline L.P.

Description: Tariff Amendment: Amended Contract Adjustments for 2019 (RP20-194-000) to be effective11/1/2019.

Filed Date: 11/7/19.

Accession Number: 20191107-5105.

Comments Due: 5 p.m. ET 11/19/19.

Docket Numbers: RP20-213-000.

Applicants: Northern Border Pipeline Company.

Description: § 4(d) Rate Filing: Contract Clean Up Filing to be effective 12/7/2019.

Filed Date: 11/7/19.

Accession Number: 20191107-5024.

Comments Due: 5 p.m. ET 11/19/19.

Docket Numbers: RP20-214-000.

Applicants: Rockies Express Pipeline LLC.

Description: § 4(d) Rate Filing: Neg Rate 2019-11-7 Encana to be effective 11/7/2019.

Filed Date: 11/7/19.

Accession Number: 20191107-5060.

Comments Due: 5 p.m. ET 11/19/19.

Docket Numbers: RP20-215-000.

Applicants: Enable Gas Transmission, LLC.

Description: § 4(d) Rate Filing: Errata Fuel Tracker Filing—Effective November 1 2019 to be effective11/1/2019.

Filed Date: 11/7/19.

Accession Number: 20191107-5109.

Comments Due: 5 p.m. ET 11/19/19.

Docket Numbers: RP20-216-000.

Applicants: Trailblazer Pipeline Company LLC.

Description: § 4(d) Rate Filing: Neg Rates 2019-11-7 RP18-922 Settlement to be effective 10/1/2019.

Filed Date: 11/7/19.

Accession Number: 20191107-5113.

Comments Due: 5 p.m. ET 11/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2019.
Nathaniel J. Davis, Sr.,
Deputy Secretary.

[FR Doc. 2019-25026 Filed 11-18-19; 8:45 am]

BILLING CODE 6717-01-P